DEPARTMENT OF TRANSPORTATION

Federal Aviation Administration

14 CFR Part 39

[Docket No. 2003-NM-114-AD; Amendment 39-14751; AD 2006-18-12]

RIN 2120-AA64

Airworthiness Directives; Saab Model SAAB-Fairchild SF340A (SAAB/SF340A) and SAAB 340B Airplanes

AGENCY: Federal Aviation Administration, DOT.

ACTION: Final rule.

SUMMARY: This amendment adopts a new airworthiness directive (AD), applicable to certain Saab Model SAAB-Fairchild SF340A (SAAB/SF340A) and SAAB 340B airplanes, that requires modification and repetitive inspections of the hot detection system of the tail pipe harness of the engine nacelles. The actions specified by this AD are intended to prevent false warning indications to the flightcrew from the hot detection system due to discrepancies of the harness, which could result in an unnecessary aborted takeoff on the ground or in-flight engine shutdowns. This action is intended to address the identified unsafe condition.

DATES: Effective October 13, 2006.

The incorporation by reference of a certain publication listed in the regulations is approved by the Director of the Federal Register as of October 13, 2006.

ADDRESSES: The service information referenced in this AD may be obtained from Saab Aircraft AB, SAAB Aircraft Product Support, S-581.88, Linköping, Sweden. This information may be examined at the Federal Aviation Administration (FAA), Transport Airplane Directorate, Rules Docket, 1601 Lind Avenue, SW., Renton, Washington.

FOR FURTHER INFORMATION CONTACT: Mike Borfitz, Aerospace Engineer, International Branch, ANM-116, Transport Airplane Directorate, FAA, 1601 Lind Avenue, SW., Renton, Washington 98057-3356; telephone (425) 227-2677; fax (425) 227-1149.

SUPPLEMENTARY INFORMATION: A proposal to amend part 39 of the Federal Aviation Regulations (14 CFR part 39) to include an airworthiness directive (AD) that is applicable to certain Saab Model SAAB-Fairchild SF340A (SAAB/SF340A) and SAAB 340B airplanes was published as a supplemental notice of proposed rulemaking (NPRM) in the Federal Register on June 26, 2006 (71 FR 36252). That action proposed to require modification and repetitive inspections of the hot detection system of the tail pipe harness of the engine nacelles.

Comments

We provided the public the opportunity to participate in the development of this AD. We received no comments on the supplemental NPRM or on the determination of the cost to the public.

Conclusion

We have carefully reviewed the available data and determined that air safety and the public interest require adopting the AD as proposed in the supplemental NPRM.

Cost Impact

We estimate that 280 airplanes of U.S. registry will be affected by this AD.

It will take about 10 work hours per airplane to accomplish the modification, at an average labor rate of $80 per work hour. Required parts cost will be between $218 and $2,253. Based on these figures, the cost impact of the modification on U.S. operators is estimated to be between $285,040 and $854,840, or between $1,018 and $3,053 per airplane.

It will take about 1 work hour per airplane to accomplish the inspection and application of sealant, at an average labor rate of $80 per work hour. Based on these figures, the cost impact of this action on U.S. operators is estimated to be $22,400, or $80 per airplane, per inspection cycle.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2006-18-12 Saab Aircraft AB: Amendment 39-14751. Docket 2003-NM-114-AD.

Applicability

Model SAAB-Fairchild SF340A (SAAB/SF340A) airplanes, serial numbers -004 through -159 inclusive, and SAAB 340B airplanes, serial numbers -160 through -459 inclusive, certificated in any category.

Compliance

Required as indicated, unless accomplished previously.

To prevent false warning indications to the flightcrew from the hot detection system of the tail pipe harness of the engine nacelles due to discrepancies of the harness, which could result in an unnecessary aborted takeoff on the ground or in-flight engine shutdowns, accomplish the following:

Modification/Repetitive Inspections

(a) Within 12 months after the effective date of this AD: Modify the hot detection system of the tail pipe harness of the engine nacelles (including a general visual inspection of the heat shrink sleeve, thixotropic sealant, and connectors for damage and/or corrosion, and all applicable repairs), by doing all the actions specified in the Accomplishment Instructions of Saab Service Bulletin 340-26-030, Revision 01, dated November 14, 2003. All applicable repairs must be done before further flight in accordance with the service bulletin. Repeat the general visual inspection thereafter at intervals not to exceed 12 months.

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

(b) Accomplishing the modification/repetitive inspections specified in Saab Service Bulletin 340-26-030, dated October 28, 2002; or Saab Service Bulletins 340-26-018, Revision 02, and 340-26-029, both dated October 28, 2002; before the effective date of this AD, is considered acceptable for compliance with the modification required by paragraph (a) of this AD.

Reporting Requirement

(c) Within 30 days after any false warning indication to the flightcrew from the hot detection system of the tail pipe harness of the engine nacelles occurs: Submit a report containing the information specified in paragraphs (c)(1), (c)(2), (c)(3), and (c)(4) of this AD to the Swedish Civil Aviation Authority (Luftfartsstyrelsen)—Attn: Mr. Christer Sundqvist, SAAB 340 Certification Manager, SE-601 79, Norrköping, Sweden. Under the provisions of the Paperwork Reduction Act (44 U.S.C. 3501 et seq.), the Office of Management and Budget (OMB) has approved the information collection requirements contained in this AD and has assigned OMB Control Number 2120-0056.

(1) The date and time, weather conditions, and phase of flight of the warning.

(2) The action taken by the flightcrew to address the warning (aborted takeoff, high speed/high energy abort requiring inspection, return for landing, in-flight diversion, declared emergency, air traffic control (ATC) priority handling requested or given, or engine shutdown).

(3) The action taken by maintenance to address/correct the warning.

(4) Time-in-service on the airplane since the last inspection accomplished in accordance with paragraph (a) of this AD.

Alternative Methods of Compliance (AMOCs)

(d)(1) In accordance with 14 CFR 39.19, the Manager, International Branch, ANM-116, Transport Airplane Directorate, FAA, is authorized to approve AMOCs for this AD.

(2) Before using any AMOC approved in accordance with 14 CFR 39.19 on any airplane to which the AMOC applies, notify the appropriate principal inspector in the FAA Flight Standards Certificate Holding District Office.

Note 2: The subject of this AD is addressed in Swedish airworthiness directive 1-184, effective October 28, 2002.

Incorporation by Reference

(e) Unless otherwise specified in this AD, the actions must be done in accordance with Saab Service Bulletin 340-26-030, Revision 01, dated November 14, 2003. This incorporation by reference was approved by the Director of the Federal Register in accordance with 5 U.S.C. 552(a) and 1 CFR part 51. To get copies of this service information, contact Saab Aircraft AB, SAAB Aircraft Product Support, S-581.88, Linköping, Sweden. To inspect copies of this service information, go to the FAA, Transport Airplane Directorate, 1601 Lind Avenue, SW., Renton, Washington; or to the National Archives and Records Administration (NARA). For information on the availability of this material at the NARA, call (202) 741-6030, or go to http://www.archives.gov/federal_register/code_of_federal_regulations/ibr_locations.html.

Effective Date

(f) This amendment becomes effective on October 13, 2006.

Issued in Renton, Washington, on August 28, 2006.
Kalene C. Yanamura,
Acting Manager, Transport Airplane Directorate, Aircraft Certification Service.

[FR Doc. E6-14690 Filed 9-7-06; 8:45 am]

BILLING CODE 4910-13-P